DEPARTMENT OF JUSTICE

[OMB Number 1124-0002]

Agency Information Collection Activities; Proposed eCollection eComments Requested; Extension With Non-Substantive Changes of a Previously Approved Collection Supplemental Statement of Foreign Agents (NSD-2)

AGENCY: Foreign Agents Registration Act (FARA) Unit, Counterintelligence and Export Control Section (CES), National Security Division, U.S. Department of Justice.

ACTION: 30-day notice.

SUMMARY: The Department of Justice (DOJ), National Security Division (NSD), will be submitting the following information collection request to the Office of Management and Budget (OMB) for review and approval in accordance with the Paperwork Reduction Act of 1995. This proposed information collection was previously published in the Federal Register at 82 FR 9396, on February 06, 2017, allowing for a 60 day comment period. There were no comments received.

DATES: Comments are encouraged and will be accepted for an additional 30 days until May 11, 2017.

FOR FURTHER INFORMATION CONTACT: If you have additional comments especially on the estimated public burden or associated response time, suggestions, or need a copy of the proposed information collection instrument with instructions or additional information, please contact Heather H. Hunt, Chief, Foreign Agents Registration Act (FARA) Unit, BICN Building, Room 1300, 600 E Street NW., Washington, DC 20530. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

(1) Type of Information Collection: Extension of a currently approved collection.

(2) The Title of the Form/Collection: Supplemental Statement (Foreign Agents).

(3) The agency form number: Form NSD-2.

(4) Affected public who will be asked or required to respond, as well as a brief abstract:

Primary: Private Sector, Business or other for-profit.

Other: Not-for-profit institutions, and individuals.

Abstract: This form contains registration statement information used for registering foreign agents under the Foreign Agents Registration Act of 1938, as amended, 22 U.S.C. 611 et seq.

5 An estimate of the total number of respondents and the amount of time estimated for an average respondent to respond: It is estimated that there are 288 respondents, 2 responses annually per each registrant or approximately 576 responses, at approximately 2 hours and 3 minutes (2.063 hours) per response to complete.

(6) An estimate of the total public burden (in hours) associated with the collection: 1,188.29 annual burden hours. (288 respondents × 2 = 576 responses × 2 hours and 3 minutes (2.063) = 1,188.29 hours).

(7) Registrants/foreign agents and the general public are alerted that in the future, the National Security Division will complete its ongoing multi-year design review, testing, and requirements enhancement efforts to offer a web form version of form NSD-2. NSD continues to make progress in enhancing the functionality of FARA eFile. Personnel are in the process of developing new web form versions of the current fillable FARA registration forms with the intent of providing greater standardization, improved intuitive features, and less burdensome requirements that will benefit foreign agents who are required to register under FARA. New capabilities are expected to improve online search capabilities. NSD is confident that the new features will offer an enhanced system, promoting greater transparency.

If additional information is required contact: Melody D. Braswell, Department Clearance Officer, United States Department of Justice, Justice Management Division, Policy and Planning Staff, Two Constitution Square, 145 N Street NE., 3E.405A, Washington, DC 20530.

Dated: April 6, 2017.
Melody D. Braswell,
Department Clearance Officer for PRA, U.S. Department of Justice.

[FR Doc. 2017-07206 Filed 4-10-17; 8:45 am]

BILLING CODE 4410-PF-P